ARCTIC RESEARCH COMMISSION

[USARC 05-100]

United States Arctic Research Commission; Meeting

October 4, 2005.

Notice is hereby given that the U.S. Arctic Research Commission will hold its 77th meeting in Corvallis, OR on October 25, 26, 2005.The Business Sessions, open to the public, will convene at 9 a.m. Tuesday, October 25, 2005. The Agenda items include:

(1) Call to order and approval of the Agenda.

(2) Approval of the Minutes of the 76th Meeting.

(3) Reports from Congressional Liaisons.

(4) Agency Reports.

The focus of the meetings will be reports and updates on programs and research projects affecting the Arctic.

The Business Session will reconvene at 9 a.m. Wednesday, October 26, 2005. An Executive Session will follow adjournment of the Business Session.

Any person planning to attend this meeting who requires special accessibility features and/or auxiliary aids, such as sign language interpreters, must inform the Commission in advance of those needs.

Contact Person for More Information: Dr. Garrett W. Brass, Executive Director U.S. Arctic Research Commission, 703-525-0111 of TDD 703-306-0090.

Garrett W. Brass,
Executive Director.

[FR Doc. 05-20666 Filed 10-14-05; 8:45 am]

BILLING CODE 7555-01-M